DEPARTMENT OF TRANSPORTATION

Federal Aviation Administration

14 CFR Part 39

[Docket No. FAA-2005-20425; Directorate Identifier 2005-NM-014-AD; Amendment 39-13987; AD 2005-04-15]

RIN 2120-AA64

Airworthiness Directives; Dassault Model Falcon 2000EX and 900EX Series Airplanes

AGENCY: Federal Aviation Administration (FAA), Department of Transportation (DOT).

ACTION: Final rule; request for comments.

SUMMARY: The FAA is adopting a new airworthiness directive (AD) for certain Dassault Model Falcon 2000EX and 900EX series airplanes. This AD requires prohibiting dispatch with certain equipment inoperative; and revising the airplane flight manual to facilitate recovery of the cockpit display units in the event of an avionics standard communication bus (ASCB) failure and to inform the flightcrew what equipment is inoperative during an ASCB failure. This AD also requires doing an integrity check of the ASCB for any faults and corrective action if necessary, and installing an avionics software update to the Honeywell Primus Epic system. This AD is prompted by a report that an analysis and tests of the Honeywell Primus Epic systems installed on the Model Falcon 2000EX and 900EX series airplanes revealed that all information displayed on the cockpit display units could become invalid during flight. We are issuing this AD to prevent a loss of data from all four of the cockpit display units, and loss of all radio communications (with the exception of VHF emergency frequency and last frequency used), primary navigation instruments, autopilot, auto-throttle, central alerting system, aural alarms, and normal braking (on Model Falcon 2000EX series airplanes only). These losses could reduce the flightcrew's situational awareness, increase flightcrew workload, and consequently reduce the ability to maintain safe flight and landing of the airplane.

DATES: Effective March 1, 2005.

The incorporation by reference of certain publications listed in the AD is approved by the Director of the Federal Register as of March 1, 2005.

We must receive comments on this AD by May 2, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this AD, contact Dassault Falcon Jet, P.O. Box 2000, South Hackensack, New Jersey 07606. You can examine this information at the National Archives and Records Administration (NARA). For information on the availability of this material at NARA, call (202) 741-6030, or go to: http://www.archives.gov/federal_register/code_of_federal_regulations/ibr_locations.html.

You can examine the contents of this AD docket on the Internet at http://dms.dot.gov, or in person at the Docket Management Facility, U.S. Department of Transportation, 400 Seventh Street, SW., room PL-401, on the plaza level of the Nassif Building, Washington, DC. This docket number is FAA-2005-20425; the directorate identifier for this docket is 2005-NM-014-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: The Direction Générale de l'Aviation Civile (DGAC), which is the airworthiness authority for France, notified the FAA that an unsafe condition may exist on certain Dassault Model Falcon 2000EX and 900EX series airplanes. The DGAC advises that an analysis and tests of the Honeywell Primus Epic system installed on Model Falcon 2000EX and 900EX series airplanes revealed a potential for all information presented on the cockpit display units to become invalid during flight. The cause of the malfunctioning cockpit display units has been attributed to a failure of a network interface controller (NIC) for the avionics standard communication bus (ASCB), which causes a loss of ASCB synchronization. The ASCB failure could result in a loss of data from all four of the cockpit display units, and loss of all radio communications (with the exception of VHF emergency frequency and last frequency used), primary navigation instruments, autopilot, auto-throttle, central alerting system, aural alarms, and normal braking (on Model Falcon 2000EX series airplanes only). These losses could reduce the flightcrew's situational awareness, increase flightcrew workload, and consequently reduce the ability to maintain safe flight and landing of the airplane.

Other Relevant Rulemaking

We have determined that since the Honeywell Primus Epic system is also installed on Gulfstream Model GV-SP series airplanes and on Empresa Brasileira de Aeronautica S.A. (EMBRAER) Model ERJ 170 series airplanes, those airplanes are subject to an unsafe condition similar to that addressed in this AD. In light of that determination, we issued AD 2005-04-06, amendment 39-13978 (70 FR 7847, February 16, 2005) (for Model GV-SP series airplanes), and issued AD 2004-26-12, amendment 39-13924 (69 FR 78300, December 30, 2004) (for Model ERJ 170 series airplanes), to address the unsafe condition on those airplane models. We may consider additional rulemaking on other airplane models having the Honeywell Primus Epic system that also exhibit a similar unsafe condition.

Relevant Service Information

Dassault has issued Service Bulletin F2000EX-58, dated January 10, 2005; and Service Bulletin F900EX-256, dated January 10, 2005. These service bulletins describe procedures for performing an inspection to check the integrity of the ASCB by inspecting for any faults. The inspection involves using a maintenance laptop computer to run a TELNET session.

Dassault has also issued Temporary Change 12, dated January 26, 2005, to the Dassault Falcon 2000EX Airplane Flight Manual, DGT88898 (for Model Falcon 2000EX series airplanes); and Temporary Change 14, dated January 12, 2005, to the Dassault Falcon 900EX Airplane Flight Manual, DGT84972 (for Model Falcon 900EX series airplanes). The temporary changes describe procedures for flightcrew to follow in the event that the information displayed on all four cockpit display units become invalid during flight. The procedures describe steps the flightcrew can perform to facilitate recovery of the cockpit display units, and informs the flightcrew what equipment will be unavailable during an ASCB failure/event.

In addition, Dassault has issued Service Bulletin F2000EX-59, dated February 2, 2005; and Service Bulletin F900EX-254, dated February 2, 2005. These service bulletins describe procedures for performing an avionics software upgrade to the Honeywell Primus Epic system. The software upgrade involves installing a new NIC and generic input/output (I/O) software.

Accomplishing the actions specified in the service information is intended to adequately address the unsafe condition. The DGAC mandated the service information described above and issued French emergency airworthiness directives UF-2005-024, dated January 27, 2005; and UF-2005-025, dated January 27, 2005; to ensure the continued airworthiness of these airplanes in France.

FAA's Determination and Requirements of This AD

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prohibit dispatch with certain equipment inoperative; and to require revising the airplane flight manual (AFM) to facilitate recovery of the cockpit display units in the event of an avionics systems communication bus (ASCB) failure and to inform the flightcrew what equipment is inoperative during an ASCB failure. This AD also requires doing an integrity check of the ASCB for any faults and corrective action if necessary, and installing an avionics software update to the Honeywell Primus Epic system. This AD requires accomplishing the actions specified in the service information described previously, except as discussed under “Differences Between this AD and the Service Information” and “Differences Between this AD and the French Airworthiness Directives.”

Differences Between the AD and the Service Information

Operators should note that, although the Accomplishment Instructions of the referenced service bulletins describe procedures for submitting a sheet recording compliance with the service bulletin, this AD will not require those actions. We do not need this information from operators.

The service bulletins F2000EX-58, dated January 10, 2005; and F900EX-256, dated January 10, 2005; specify that you may contact the manufacturer for instructions on how to repair certain conditions, but this AD requires you to repair those conditions using a method that we or the European Aviation Safety Agency (EASA) (or its delegated agent) approve. In light of the type of repair that would be required to address the unsafe condition, and consistent with existing bilateral airworthiness agreements, we have determined that, for this AD, a repair we or the EASA approve would be acceptable for compliance with this AD.

Differences Between This AD and the French Airworthiness Directives

Although the French airworthiness directives specify a compliance time of 24 hours after the effective date of the French airworthiness directive for the AFM revisions, we specify a compliance time of 72 hours after the effective date of this AD. We find that this will prevent airplanes from being grounded unnecessarily without adversely affecting the safety of the airplanes.

Although the French airworthiness directives require operators to revise the Abnormal Procedures of the AFMs, this AD requires the Limitations section to be revised. The Limitations section of the AFM is the only AFM section mandated by the FAA.

Although the French airworthiness directives require revising the AFM by inserting operational limitations on landing with published go-around flight paths and on take-off in a certain runway visual range condition, we do not require that action. This decision is based on our determination that those operational limitation revisions are not necessary.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2005-20425; Directorate Identifier 2005-NM-014-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-04-15 Dassault Aviation: Amendment 39-13987. Docket No. FAA-2005-20425; Directorate Identifier 2005-NM-014-AD.

Effective Date

(a) This AD becomes effective March 1, 2005.

Affected ADs

(b) None.

Applicability

(c) This AD applies to Dassault Model Falcon 2000EX series airplanes with serial numbers 6, 28 and subsequent; and Model Falcon 900EX series airplanes with serial numbers 97, 120 and subsequent; certificated in any category.

Unsafe Condition

(d) This AD was prompted by a report that an analysis and tests of the Honeywell Primus Epic systems installed on Model Falcon 2000EX and 900EX series airplanes revealed that all information displayed on the cockpit display units could become invalid during flight. The FAA is issuing this AD to prevent a loss of data from all four of the cockpit display units, and loss of all radio communications (with the exception of VHF emergency frequency and last frequency used), primary navigation instruments, autopilot, auto-throttle, central alerting system, aural alarms, and normal braking (on Model Falcon 2000EX series airplanes only). These losses could reduce the flightcrew's situational awareness, increase flightcrew workload, and consequently reduce the ability to maintain safe flight and landing of the airplane.

Compliance

(e) You are responsible for having the actions required by this AD performed within the compliance times specified, unless the actions have already been done.

Inoperative Equipment Restrictions

(f) As of the effective date of this AD, dispatch is prohibited with any of the equipment specified in paragraphs (f)(1), (f)(2), (f)(3), and (f)(4) of this AD inoperative. When the actions required in paragraph (i) of this AD are accomplished, dispatch with any of the equipment specified in paragraphs (f)(1), (f)(2), (f)(3), and (f)(4) inoperative is allowed in accordance with the provisions and limitations specified in the Master Minimum Equipment List (MMEL).

Note 1: The MMELs currently allow flight/dispatch with any or all of the equipment specified in paragraphs (f)(1), (f)(2), (f)(3), and (f)(4) inoperative under certain conditions. This AD supersedes the MMEL or the approved Minimum Equipment List (MEL) for any operator. Paragraph (i) of this AD provides the required terminating action for the dispatch restrictions.

(1) Dispatch with Secondary flight display system inoperative, as allowed in section 34-2, item 5, of the Dassault F2000EX MMEL or the Dassault F900EX MMEL, as applicable, is prohibited.

(2) Dispatch with Non-stabilized magnetic (standby) compass inoperative, as allowed in section 34-2, item 6, of the Dassault F2000EX MMEL or the Dassault F900EX MMEL, as applicable, is prohibited.

(3) Dispatch with UP-DN manual regulator in pressurized flight inoperative, as allowed in section 21-5, item 2, of the Dassault F2000EX MMEL; or in section 21-5, item 3, of the Dassault F900EX MMEL; as applicable; is prohibited.

(4) Dispatch with Digital electronic engine computers (automatic mode) inoperative, as allowed in section 73-1, item 1, sub-item 1, of the Dassault F900EX MMEL is prohibited.

Airplane Flight Manual (AFM) Revision

(g) Within 72 hours after the effective date of this AD, revise the Limitations section of the AFM as required in paragraphs (g)(1) and (g)(2) of this AD, as applicable.

(1) Revise Dassault Falcon F2000EX AFM, DGT88898, by inserting a copy of Dassault Temporary Change (TC) 12, dated January 26, 2005.

(2) Revise Dassault Falcon 900EX AFM, DGT84972, by inserting a copy of Dassault TC 14, dated January 12, 2005.

Inspection

(h) Within 30 days after the effective date of this AD, do an inspection to check the integrity of the avionics systems communication bus (ASCB) for any faults, in accordance with the Accomplishment Instructions of Dassault Service Bulletin F2000EX-58, dated January 10, 2005; or Dassault Service Bulletin F900EX-256, dated January 10, 2005; as applicable. If any fault is found during the inspection, before further flight, repair the ASCB in accordance with a method approved by either the Manager, International Branch, ANM-116, Transport Airplane Directorate, FAA; or the European Aviation Safety Agency (EASA) (or its delegated agent).

Terminating Action

(i) Within 90 days after the effective date of this AD, install an avionics software update to the Honeywell Primus Epic system in accordance with the Accomplishment Instructions of Dassault Service Bulletin F2000EX-59, dated February 2, 2005; or Dassault Service Bulletin F900FX-254, dated February 2, 2005; as applicable. Doing this software update ends the requirements of paragraph (h) of this AD, and the dispatch restrictions and AFM revisions required by paragraphs (f) and (g) of this AD may be removed.

No Reporting Requirement

(j) Although the service bulletins referenced in this AD specify to submit information to the manufacturer, this AD does not include that requirement.

Alternative Methods of Compliance (AMOCs)

(k) The Manager, International Branch, ANM-116, has the authority to approve AMOCs for this AD, if requested in accordance with the procedures found in 14 CFR 39.19.

Related Information

(l) French emergency airworthiness directives UF-2005-024, dated January 27, 2005; and UF-2005-025, dated January 27, 2005; also address the subject of this AD.

Material Incorporated by Reference

(m) You must use the service information that is specified in Table 1 of this AD to perform the actions that are required by this AD, unless the AD specifies otherwise. (Only the title and List of Temporary Changes pages of Dassault Temporary Changes 12 and 14 contain the document issue date; no other page of these documents contain this information.) The Director of the Federal Register approves the incorporation by reference of those documents in accordance with 5 U.S.C. 552(a) and 1 CFR part 51. For copies of the service information, contact Dassault Falcon Jet, P.O. Box 2000, South Hackensack, New Jersey 07606. You can review copies at the Docket Management Facility, U.S. Department of Transportation, 400 Seventh Street SW., room PL-401, Nassif Building, Washington, DC; or at the National Archives and Records Administration (NARA). For information on the availability of this material at NARA, call (202) 741-6030, or go to http://www.archives.gov/federal_register/code_of_federal_regulations/ibr_locations.html.

Table 1.—Material Incorporated by Reference
Service information | Date
Dassault Service Bulletin F2000EX-58 | January 10, 2005.
Dassault Service Bulletin F2000EX-59 | February 2, 2005.
Dassault Service Bulletin F900EX-254 | February 2, 2005.
Dassault Service Bulletin F900EX-256 | January 10, 2005.
Dassault Falcon 2000EX Temporary Change 12 | January 26, 2005.
Dassault Falcon 900EX Temporary Change 14 | January 12, 2005.

Issued in Renton, Washington, on February 14, 2005.
Ali Bahrami,
Manager, Transport Airplane Directorate, Aircraft Certification Service.

[FR Doc. 05-3559 Filed 2-28-05; 8:45 am]

BILLING CODE 4910-13-P